DEPARTMENT OF AGRICULTURE

Rogue/Umpqua Resource Advisory Committee (RAC)

AGENCY: Forest Service, USDA.

SUMMARY: The Rogue/Umpqua Resource Advisory Committee (RAC) will meet on Thursday and Friday, June 13 and 14, 2002. The meeting is scheduled to begin at 8 a.m. and conclude at approximately 4:45 p.m. on June 13 and 8 a.m and conclude at approximately 4:45 p.m. on June 14. The meeting will be held at the Red Lion Inn Hotel 200 N. Riverside Avenue, Medford, OR. The agenda includes (1) Review of additional fiscal year 02 Title II projects on the Rogue River and Umpqua national forests, (2) Review of Title II projects on the Rogue River and Umpqua national forests proposed by the Forest Service for fiscal year 03, (3) Public Forum, including presentation of proposals submitted by the public, (4) project selection, and (5) variety of presentations on natural resource topics. The Public Forum is scheduled to begin at 8:10 a.m. on June 14. Time allotted for individual presentations will be limited to 3-4 minutes. Written comments are encouraged, particularly if the material cannot be presented within the time limits for the Public Forum. Written comments may be submitted prior to the June meeting by sending them to Designated Federal Official Jim Caplan at the address given below.

FOR FURTHER INFORMATION CONTACT: For more information regarding this meeting, contact Designated Federal Official Jim Caplan; Umpqua National Forest; PO Box 1008, Roseburg, Oregon 97470; (541) 957-3203.

Dated: June 3, 2002.
Lyle Burmeister,
Acting Deputy Forest Supervisor, Umpqua National Forest.

[FR Doc. 02-14321 Filed 6-6-02; 8:45 am]

BILLING CODE 3410-11-M